DEPARTMENT OF THE INTERIOR

National Park Service

[2253-665]

Notice of Intent To Repatriate Cultural Items: Field Museum of Natural History, Chicago, IL

AGENCY: National Park Service, Interior.

ACTION: Notice.

Notice is here given in accordance with the Native American Graves Protection and Repatriation Act (NAGPRA), 25 U.S.C. 3005, of the intent to repatriate cultural items in the possession of the Field Museum of Natural History (Field Museum), Chicago, IL, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

The three cultural items are copper pendants. One copper pendant (Field Museum catalog number 279396) has an oblong shape and measures 6.5 cm x 2.4 cm. The second copper pendant (Field Museum catalog number 279544) has a roughly triangular shape with a hole at the top in which fiber runs through, and measures 7.1 cm x 7.1 cm. The third copper pendant (Field Museum catalog number 279567) has an oblong shape and measures 7.3 cm x 5 cm.

According to Field Museum records, the three cultural items were removed from Franklin County, WA. At an unknown date, Donald O. Boudeman acquired the items for the Kalamazoo Valley Museum, Kalamazoo, MI. In 1999, the Field Museum of Natural History acquired the cultural items as a gift from the Kalamazoo Valley Museum, and accessioned them into its collections that same year.

The three cultural items have been identified as Native American through museum records, scholarly publications, and consultation information provided by representatives of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and the Wanapum Band, a non-Federally recognized Indian group.

Officials of the Field Museum of Natural History have determined, pursuant to 25 U.S.C. 3001(3)(B), that the cultural items described above are reasonably believed to have been placed with or near individual human remains at the time of death or later as part of a death rite or ceremony and are believed, by a preponderance of the evidence, to have been removed from a specific burial site of a Native American individual. Officials of the Field Museum of Natural History also have determined, pursuant to 25 U.S.C. 3001(2), that there is a relationship of shared group identity that can be reasonably traced between the unassociated funerary objects and the Confederated Tribes of the Colville Reservation, Washington; Confederated Tribes of the Umatilla Indian Reservation, Oregon; and Confederated Tribes and Bands of the Yakama Nation, Washington. Furthermore, officials of the Field Museum of Natural History have determined that there is a cultural relationship between the unassociated funerary objects and the Wanapum Band, a non-Federally recognized Indian group.

Representatives of any other Indian tribe that believes itself to be culturally affiliated with the unassociated funerary objects should contact Helen Robbins, Repatriation Director, Field Museum of Natural History, 1400 S. Lake Shore Dr., Chicago, IL 60605, telephone (312) 665-7317, before June 13, 2011. Repatriation of the unassociated funerary objects to the Confederated Tribes of the Colville Reservation, Washington; Confederated Tribes of the Umatilla Indian Reservation, Oregon; and Confederated Tribes and Bands of the Yakama Nation, Washington, may proceed after that date if no additional claimants come forward. The Field Museum of Natural History recognizes the participation of the Wanapum Band, a non-Federally recognized Indian group, during the transfer of the unassociated funerary objects to the Indian tribes.

The Field Museum is responsible for notifying the Confederated Tribes of the Colville Reservation, Washington; Confederated Tribes of the Umatilla Indian Reservation, Oregon; Confederated Tribes of the Warm Springs Reservation of Oregon; Confederated Tribes and Bands of the Yakama Nation, Washington; the Nez Perce Tribe, Idaho, and the Wanapum Band, a non-Federally recognized Indian group, that this notice has been published.

Dated: May 9, 2011.
Sherry Hutt,
Manager, National NAGPRA Program.

[FR Doc. 2011-11863 Filed 5-12-11; 8:45 am]

BILLING CODE 4312-50-P